DEPARTMENT OF HOMELAND SECURITY

Coast Guard

[Docket No. USCG-2013-0194]

Navigation Safety Advisory Council

AGENCY: United States Coast Guard, DHS.

ACTION: Notice of Federal Advisory Committee Meeting.

SUMMARY: The Navigation Safety Advisory Council (NAVSAC) will meet December 3-4, 2013, in Portsmouth, Virginia to discuss matters relating to maritime collisions, rammings, groundings; Inland and International Rules of the Road; navigation regulations and equipment; routing measures; marine information; diving safety; and aids to navigation systems. The meeting will be open to the public.

DATES: NAVSAC will meet Tuesday, December 3, 2013, from 8 a.m. to 5 p.m., and Wednesday, December 4, 2013, from 8 a.m. to 1 p.m. Please note that the meeting may close early if the Council has completed its business. Written comments are due by November 26, 2013.

ADDRESSES: The meeting will be held at the Renaissance Portsmouth Hotel and Convention Center, 425 Waters Street, Portsmouth, Virginia 23704. For information on facilities or services for individuals with disabilities or to request special assistance at the meeting, contact Mr. Burt Lahn listed in the FOR FURTHER INFORMATION CONTACT section below as soon as possible.

To facilitate public participation, we are inviting public comment on the issues to be considered by the council prior to the formulation of recommendations as listed in the “Agenda” section below.

You may submit written comments no later than November 26, 2013, and must be identified by USCG-2013-0194 using one of the following methods:

• Federal eRulemaking Portal: http://www.regulations.gov. Follow the instructions for submitting comments (preferred method to avoid delays in processing). Simply enter “USCG-2013-0194” in the “SEARCH” field, click on <SEARCH>, then click on <COMMENT NOW> next to the Meeting Announcement.

• Fax: 202-493-2251.

• Mail: Docket Management Facility (M-30), U.S. Department of Transportation, West Building Ground Floor, Room W12-140, 1200 New Jersey Avenue SE. Washington, DC 20590-0001.

• Hand Delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov. Simply enter “USCG-2013-0194” in the “SEARCH” field, click on <SEARCH>, click on <Open Docket Folder> next to the Meeting Announcement, then click on the title of any comment you wish to review.

A public comment period will be held during the meeting on December 3, 2013, from 3:00 p.m. to 4:00 p.m. and December 4, 2013, from 11:00 a.m. until the close of the meeting. Public presentations may also be given. Speakers are requested to limit their presentation and comments to 10 minutes. Please note that the public comment period may end before the time indicated, following the last call for comments. To register as a speaker, contact Mr. Burt Lahn listed in the FOR FURTHER INFORMATION CONTACT section below.

FOR FURTHER INFORMATION CONTACT: If you have questions about this meeting, please contact Mr. Mike Sollosi, the NAVSAC Alternate Designated Federal Officer (ADFO), by telephone at 202-372-1545 or via email at mike.m.sollosi@uscg.mil; or Mr. Burt Lahn, NAVSAC meeting coordinator, at telephone 202-372-1526 or email burt.a.lahn@uscg.mil. If you have questions on viewing or submitting material to the docket, call Barbara Hairston, Program Manager, Docket Operations, telephone 202-366-9826.

SUPPLEMENTARY INFORMATION: Notice of this meeting is given under the Federal Advisory Committee Act (FACA), 5 U.S.C. Appendix (Pub. L. 92-463).

The NAVSAC is an advisory council authorized by 33 U.S.C. 2073 and chartered under the provisions of the FACA. NAVSAC provides advice and recommendations to the Secretary of Homeland Security, through the Commandant of the U.S. Coast Guard, on matters relating to prevention of maritime collisions, rammings, and groundings; Inland and International Rules of the Road; navigation regulations and equipment; routing measures; marine information; diving safety; and aids to navigation systems.

The meeting will be held at the Renaissance Portsmouth Hotel and Convention Center, 425 Waters Street, Portsmouth, Virginia 23704. https://maps.google.com/maps?f=q&source=s_q&hl=en&geocode=&q=425+water+st+portsmouth+va&aq=&vps=1&jsv=466g&sll=37.857507,95.625&sspn=36.699081,78.837891&vpsrc=3&t=h&ie=UTF8&ct=clnk&cd=1&spell=1.

Agenda: The NAVSAC will meet to review, discuss and formulate recommendations on the following topics:

Tuesday, December 3, 2013

(1) Risk assessment updates. At the April 2013 Council meeting the Coast Guard provided an overview of ongoing risk assessments for several U.S. ports/waterways. The Council will receive an updated brief on the status of the risk assessments and the progress made since the April 2013 meeting.

(2) E-Navigation Strategy. The Council will receive an updated brief on activities of the Committee on the Marine Transportation System, and progress made on the development of the National E-Navigation Strategy.

(3) Atlantic Coast Ports Access Route Study (ACPARS).

The Council will receive an update on the ACPARS undertaken to accommodate offshore wind energy development. The update will include a presentation on what activities are currently in progress, and those expected to commence in calendar year 2014.

(4) Navigation Rules Regulatory Project. The Council will receive an update on the Coast Guard's progress toward implementing NAVSAC proposed changes to the Inland Navigation Rules.

(5) Electronic Charts and Publications. The Council will receive an update on recent changes announced by the National Oceanic and Atmospheric Administration, Office of Coast Survey, to the printing and distribution of paper nautical charts and publications.

Following the above presentations, the Council will form working groups to discuss and provide recommendations on the following tasks as appropriate:

(1) NAVSAC Task 12-03—Unmanned vehicles/vessels (UV). The Council was asked to review current UV standards of operation, consider whether the latest generation of these vessels should employ AIS, and propose additional rules/standards of operation for both unmanned underwater vehicles, and unmanned surface vessels. NAVSAC previously discussed this task at both the November 2012 meeting and the April 2013 meeting. At the conclusion of the April 2013 meeting NAVSAC agreed to continue discussions and deliberations at the fall 2013 meeting. The Council will be asked to continue discussions on this task and provide a Resolution that includes recommendations for rules/standards of operation for unmanned surface vessels.

(2) NAVSAC Task 13-02—Discussion of vessel crossing situations outlined in the Inland Navigation Rules, 33 CFR 83.15(b). The Council will be asked to begin discussions and provide recommendations on amending Rule 15(b), including what impacts any proposed amendments may have on vessels crossing situations on the western rivers system.

(3) NAVSAC Task 13-03—Continued use of Dayshapes to indicate status. The Council will be asked to begin discussions and provide recommendations on the continued display of Dayshapes for vessels as required by 33 CFR subpart C of the Inland Navigation Rules.

Public comments or questions will be taken during the meeting after the Council discusses each issue and prior to the Council formulating recommendations on each issue. There will also be a public comment period at the end of the meeting.

Wednesday, December 4, 2013

(1) Working Group Discussions continued from December 3, 2013.

(2) Working Group Reports presented to the Council.

(3) New Business:

a. Summary of NAVSAC Action Items.

b. Schedule Next Meeting Date—Spring 2014.

c. Council discussions and summary of new tasks and pending action items.

A public comment period will be held after the discussion of new tasks. Speakers' comments are limited to 10 minutes each. Public comments or questions may also be taken during the discussion and recommendations, and new business portions of the meeting.

Dated: November 5, 2013.
G.C. Rasicot,
Director, Marine Transportation Systems, U.S. Coast Guard.

[FR Doc. 2013-27014 Filed 11-12-13; 8:45 am]

BILLING CODE 9110-04-P